OFFICE OF MANAGEMENT AND BUDGET

Office of Federal Procurement Policy

DEPARTMENT OF DEFENSE

GENERAL SERVICES ADMINISTRATION

NATIONAL AERONAUTICS AND SPACE ADMINISTRATION

48 CFR Parts 1, 2, 3, 4, 5, 6, 8, 9, 10, 12, 13, 15, 16, 17, 19, 22, 23, 25, 26, 30, 32, 36, 42, 50, and 52

[FAC 2025-06, FAR Case 2024-001; Docket No. 2024-0001; Sequence No. 1]

RIN 9000-AO73

Federal Acquisition Regulation: Inflation Adjustment of Acquisition-Related Thresholds

AGENCY: Office of Federal Procurement Policy (OFPP), Office of Management and Budget (OMB); Department of Defense (DoD); General Services Administration (GSA); and National Aeronautics and Space Administration (NASA).

ACTION: Final rule.

SUMMARY: OFPP, DoD, GSA, and NASA (collectively referred to as the Federal Acquisition Regulatory Council, or FAR Council) are issuing a final rule amending the Federal Acquisition Regulation (FAR) to further implement a statute, which requires an adjustment every five years of statutory acquisition-related thresholds for inflation. The adjustment uses the Consumer Price Index for all urban consumers and does not apply to the Construction Wage Rate Requirements statute, Service Contract Labor Standards statute, performance and payment bonds, and trade agreements thresholds. OFPP, DoD, GSA, and NASA are also using the same methodology to adjust nonstatutory FAR acquisition-related thresholds in 2025.

DATES: Effective: October 1, 2025.

FOR FURTHER INFORMATION CONTACT: For clarification of content, contact FARpolicy@gsa.gov or call 202-969-4075. For information pertaining to status or publication schedules, contact the Regulatory Secretariat Division at 202-501-4755 or GSARegSec@gsa.gov. Please cite FAC 2025-06, FAR Case 2024-001.

SUPPLEMENTARY INFORMATION:

I. Background

DoD, GSA, and NASA published a proposed rule at 89 FR 94649 on November 29, 2024, to further implement 41 U.S.C. 1908. Section 1908 requires an adjustment every five years (on October 1 of each year evenly divisible by five) of statutory acquisition-related thresholds for inflation, using the Consumer Price Index (CPI) for all urban consumers, except for the Construction Wage Rate Requirements statute (Davis-Bacon Act), Service Contract Labor Standards statute, performance and payment bonds, and trade agreements thresholds (see FAR 1.109). As a matter of policy, OFPP, DoD, GSA, and NASA are also using the same methodology to adjust nonstatutory FAR acquisition-related thresholds on October 1, 2025.

The preamble to the proposed rule contained detailed explanations of—

• What an acquisition-related threshold is;

• Which acquisition-related thresholds are not subject to escalation adjustment under this case;

• How the Defense Acquisition Regulations Council and the Civilian Agency Acquisition Council (Councils) analyze statutory and nonstatutory acquisition-related thresholds; and

• The effect of this rule on the most heavily used thresholds.

The following list identifies the impact of this rule on heavily-used thresholds.

• The micro-purchase threshold (MPT) at FAR 2.101 is increased from $10,000 to $15,000. In paragraphs 3(i) and (ii) of the definition, which address acquisitions to support contingency operations or to facilitate defense against certain attacks, the thresholds are increasing from $20,000 to $25,000 and from $35,000 to $40,000, respectively.

• The simplified acquisition threshold (SAT) is increased from $250,000 to $350,000. In paragraphs (1)(i) and (ii) of the definition, which address acquisitions to support contingency operations or to facilitate defense against certain attacks, the thresholds are increasing from $800,000 to $1 million and from $1.5 million to $2 million, respectively. In paragraph (2) of the definition, which addresses support for a humanitarian or peacekeeping operation, the threshold increases from $500,000 to $650,000.

• The threshold for reporting first-tier subcontract information including executive compensation increases from $30,000 to $40,000 (FAR 4.1401).

• The preaward and post-award notices (FAR part 5) remain at $25,000 because of trade agreements.

• The threshold for requiring a separate justification or determination and findings when a contracting officer intends to award a sole-source contract to an eligible 8(a) participant is increased from $25 million to $30 million (FAR 6.204(b)).

• Approval thresholds of justifications for other than full and open competition (FAR 6.304) will increase from $750,000 to $900,000 at paragraphs (a)(1) and (2). In paragraphs (a)(2) through (4), the figure of $15 million will increase to $20 million, and $75 million will increase to $90 million. The $100 million threshold applicable to DoD, NASA, and the Coast Guard will increase to $150 million.

• The ceiling for simplified procedures for certain commercial products and commercial services (FAR 13.500(a)) is increased from $7.5 million to $9 million. For acquisitions described at FAR 13.500(c), the $15 million ceiling is not increasing.

• The cost or pricing data threshold at FAR 15.403-4, for contracts awarded before July 1, 2018, increases from $750,000 to $950,000. For contracts issued on or after July 1, 2018, the threshold increases from $2 million to $2.5 million.

• The prime contractor subcontracting plan (FAR 19.702) threshold is increasing from $750,000 to $900,000, and the associated threshold for construction is increasing from $1.5 million to $2 million.

This is the fifth review of FAR acquisition-related thresholds since the statute was passed on October 28, 2004 (section 807 of the Ronald W. Reagan National Defense Authorization Act for Fiscal Year 2005). The last review was conducted under FAR case 2019-013 during FY 2020. The final rule under that case was published in the Federal Register on October 2, 2020 (85 FR 62485), effective October 1, 2020.

Thirty-three respondents submitted comments on the proposed rule.

II. Discussion and Analysis

The Civilian Agency Acquisition Council and the Defense Acquisition Regulations Council (the Councils) reviewed the public comments in the development of the final rule.

A. Summary of Significant Changes

The Councils have historically used the March CPI as the factor to calculate the final escalatory amounts, although the statute does not specify a certain month. The proposed rule estimated the March 2025 CPI for all urban consumers at 323.193. The actual March 2025 CPI was 319.799. This final rule uses the April 2025 CPI of 320.795. The Councils have elected to use the April 2025 CPI because the April CPI was available for use in the final rule and it provides a more accurate reflection of inflation.

Some thresholds published in the proposed rule will not escalate to the extent provided in the proposed rule. The Councils have recalculated the thresholds at FAR 6.304(a)(1) through (a)(4), 8.405-6(d)(1) through (d)(4), 12.203, 13.000, 13.003(c) and (g), 13.303-5(b), 13.500, 13.501(a), 16.505(b)(2), 19.702, 19.704, 19.708, 19.1406, 22.1103, 42.1502, 50.102, and the contract clause 52.248-3.

One threshold published in the proposed rule was very close but did not reach the statutory calculation formula amount for escalation and is removed from this final rule. The Councils have removed the proposed escalation for the $15 million threshold described at FAR 13.500(c). Conforming changes for this threshold are made at FAR 12.203, 13.000, 13.003, 13.303-5(b), and 13.500(a).

One threshold is escalated in response to a public comment. The cost or pricing data threshold at FAR 15.403-4, for contracts awarded before July 1, 2018, increases from $750,000 to $950,000. Conforming changes are made to the contract clauses at FAR 52.214-28 (Alt 1), 52.215-12 (Alt 1), and 52.215-13 (Alt 1).

B. Analysis of Public Comments

Comment: Numerous respondents expressed support for the rule.

Response: The Councils acknowledge the support.

Comment: Several respondents expressed support for the rule, but requested that the Councils consider increasing the Construction Wage Rate Requirements statute (Davis-Bacon Act) and the Service Contract Labor Standards statute thresholds.

Response: The statute directing inflationary adjustments specifically excludes adjustments to the Construction Wage Rate Requirements statute (Davis-Bacon Act) threshold, the Service Contract Labor Standards statute threshold, performance and payment bonds, and trade agreements thresholds (see FAR 1.109). Therefore, the FAR Council does not have the authority to adjust these thresholds.

Comment: A respondent stated that the Councils did not adjust the Truth In Negotiations Act (TINA) threshold at FAR 15.403-4(a)(1), which applies to contracts awarded before July 1, 2018.

Response: The Councils agree and have revised the final rule to escalate the threshold and to implement conforming changes in the associated contract clauses.

Comment: A respondent opposed the threshold requirement for limiting competition (FAR part 6) to eligible 8(a) awards over $25 million increase to $30 million.

Response: This rule does not limit the requirement for competition in FAR part 6 to eligible 8(a) participants for contracts valued at more than $30 million. The rule escalates the threshold for requiring a separate justification or determination and findings when a contracting officer intends to award a sole-source contract to an eligible 8(a) participant.

Comment: Numerous respondents encouraged the Councils to implement the Federal Improvement in Technology (FIT) Procurement Act (H.R. 9595), which would increase the MPT to $25,000, and the SAT to $500,000.

Response: This comment is outside the scope of this rule, which implements 41 U.S.C. 1908.

Comment: A respondent expressed concerns that the proposed changes risk prioritizing scale over equity, further marginalizing those not within 13 CFR 124.506(b) owned businesses and other individually owned small, disadvantaged businesses in favor of entities benefitting from statutory exemptions under 13 CFR 124.506(b).

Response: This comment is outside the scope of this rule, which implements 41 U.S.C. 1908.

Comment: A respondent expressed concerns that increasing the SAT is detrimental to small business manufacturers unless the non-manufacturing rule is required to be applied.

Response: This comment is outside the scope of this rule, which implements 41 U.S.C. 1908.

Comment: A respondent expressed concerns that the increased thresholds may negatively impact certain small businesses. The respondent recommended that agencies work with the business community to minimize unintentional negative consequences on smaller contractors and subcontractors who may be locked out of programs due to climbing thresholds and sole-source amounts.

Response: This comment is outside the scope of this rule, which implements 41 U.S.C. 1908.

III. Applicability to Contracts at or Below the Simplified Acquisition Threshold (SAT) and for Commercial Products (Including Commercially Available Off-the-Shelf (COTS) Items) or for Commercial Services

This rule does not create any new provisions or clauses, nor does it change the applicability of any existing provisions or clauses included in solicitations and contracts valued at or below the SAT, or for commercial products, including COTS items, or for commercial services.

IV. Expected Impact of the Rule

The final rule is not expected to have a significant impact on the public or the Government because the rule is intended to maintain the status quo by adjusting acquisition-related thresholds for inflation. The escalation of statutory acquisition-related thresholds is mandated by 41 U.S.C. 1908, including how to calculate the escalation.

The most impactful threshold escalations will likely be associated with the increases to the MPT and SAT. According to data from the Federal Procurement Data System (FPDS), the average number of Federal awards valued at or below the current MPT ($10,000) during fiscal years (FY) 2022 through 2024 were approximately 562,324. Those actions were awarded to approximately 18,440 unique entities. For the same period, FPDS data indicates that between the current MPT and the proposed threshold value of $15,000, another 49,321 awards were made to approximately 13,788 unique entities. While it is unclear how much duplication there is between the unique entities for each data point, the data illustrates an approximate 9 percent increase in the number of actions that would be considered under the MPT.

For actions above the current MPT but valued at or below the current SAT ($250,000), FPDS data for the same period indicates that an average of 235,020 contract actions were awarded to approximately 48,686 unique entities. According to FPDS data between the current SAT and the proposed threshold value of $350,000, another 5,150 (2 percent) contract actions could be awarded to approximately 3,580 entities using the flexibilities afforded to contracts at or below the SAT.

While not significant in number or percentage, the data appears to illustrate slight decreases in the number of contract actions that were valued at or under the MPT for each of the reported fiscal years. However, the number of contract actions having a value between the MPT and the SAT have increased slightly. OFPP, DoD, GSA, and NASA assume that these changes, however insignificant, illustrate that the value of Federal procurements has increased, resulting in more regulatory burden on offerors and contractors.

OFPP, DoD, GSA, and NASA expect this final rule to provide the adjustments necessary to mitigate the impact of inflation on both the public and the Government as intended under 41 U.S.C. 1908. The rule does not change direction to contracting officers nor does it change the applicability of any requirements for offerors and contractors.

V. Executive Orders 12866 and 13563

Executive Orders (E.O.s) 12866 and 13563 direct agencies to assess costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993.

VI. Executive Order 14192

This rule is not an E.O. 14192 regulatory action because this rule is not significant under E.O. 12866. Additionally, this final rule neither increases nor decreases the cost of the proposed rule and, accordingly, does not qualify as an E.O. 14192 deregulatory action. Thus, this rule is considered neither regulatory nor deregulatory for purposes of E.O. 14192.

VII. Congressional Review Act

Pursuant to the Congressional Review Act, the FAR Council will send this rule to each House of the Congress and to the Comptroller General of the United States. The Office of Information and Regulatory Affairs (OIRA) in the Office of Management and Budget has determined that this rule does not meet the definition in 5 U.S.C. 804(2).

VIII. Regulatory Flexibility Act

The FAR Council has prepared a Final Regulatory Flexibility Analysis (FRFA) consistent with the Regulatory Flexibility Act, 5 U.S.C. 601-612.

1. Statement of the need for, and the objectives of, the rule.

The Federal Acquisition Regulatory Council is amending the Federal Acquisition Regulation (FAR) to implement 41 U.S.C. 1908 and to amend other acquisition-related dollar thresholds that are based on policy rather than statute in order to adjust for the changing value of the dollar. 41 U.S.C. 1908 requires adjustment every 5 years of statutory acquisition-related dollar thresholds, except for the Construction Wage Rate Requirements statute (Davis-Bacon Act), Service Contract Labor Standards statute, performance and payment bonds (formerly the Miller Act), and trade agreements thresholds. The objective of the final rule is to maintain the status quo by adjusting acquisition-related thresholds for inflation.

2. Statement of the significant issues raised by the public comments in response to the initial regulatory flexibility analysis, a statement of the assessment of the agency of such issues, and a statement of any changes made to the rules as a result of such comments.

There were no significant issues raised by the public in response to the Initial Regulatory Flexibility Analysis provided in the proposed rule.

3. Description of and an estimate of the number of small entities to which the rule will apply.

This final rule will have a minimal impact on small business concerns that submit offers or are awarded contracts by the Federal Government. However, most of the threshold changes in this rule are not expected to have any significant economic impact on small business concerns because the threshold changes are intended to maintain the status quo by adjusting for changes in the value of the dollar. Often any impact will be beneficial, by preventing burdensome requirements from applying to more and more acquisitions, as the dollar loses value.

According to the System for Award Management (SAM), as of December 2023, there were 361,685 entities registered as small businesses under any North American Industry Classification System code. This rule assumes that any of the 361,685 small entities registered in SAM may experience some benefit from a reduction in burden as a result of this rule.

4. Description of projected reporting, recordkeeping, and other compliance requirements of the rule.

The final rule does not impose any new reporting, recordkeeping, or other compliance requirements for small entities.

5. Description of the steps the agency has taken to minimize the significant economic impact on small entities consistent with the stated objectives of applicable statutes.

There are no known significant alternative approaches to the final rule, and no further steps available to minimize impact on small entities—there is no significant economic impact on them.

Interested parties may obtain a copy of the FRFA from the Regulatory Secretariat Division. The Regulatory Secretariat Division has submitted a copy of the FRFA to the Chief Counsel for Advocacy of the Small Business Administration.

IX. Paperwork Reduction Act

The Paperwork Reduction Act does apply. The changes to the FAR do not impose new information collection requirements that require the approval of the Office of Management and Budget (OMB) under 44 U.S.C. 3501, et seq. By adjusting the thresholds for inflation, the status quo for the current information collection requirements is maintained under the following OMB clearance numbers: 9000-0007, 1250-0004, and 1293-0005.

List of Subjects in 48 CFR Parts 1, 2, 3, 4, 5, 6, 8, 9, 10, 12, 13, 15, 16, 17, 19, 22, 23, 25, 26, 30, 32, 36, 42, 50, and 52

Government procurement.

William F. Clark,
Director, Office of Government-wide Acquisition Policy, Office of Acquisition Policy, Office of Government-wide Policy.

Therefore, OFPP, DoD, GSA, and NASA amend 48 CFR parts 1, 2, 3, 4, 5, 6, 8, 9, 10, 12, 13, 15, 16, 17, 19, 22, 23, 25, 26, 30, 32, 36, 42, 50, and 52 as set forth below:

PART 1—FEDERAL ACQUISITION REGULATIONS SYSTEM

1. The authority citation for 48 CFR part 1 continues to read as follows:

Authority: 41 U.S.C. 1121(b); 40 U.S.C. 121(c); 10 U.S.C. chapter 4 and 10 U.S.C. chapter 137 legacy provisions (see 10 U.S.C. 3016); and 51 U.S.C. 20113.

1.109 [Amended]

2. Amend section 1.109, in paragraph (e) by removing “2019-013” and adding “2024-001” in its place.

3. The authority citation for 48 CFR parts 2, 3, 4, 5, 6, 8, 9, 10, 12, 13, 15, and 16 is revised to read as follows:

Authority: 41 U.S.C. 1121(b); 40 U.S.C. 121(c); 10 U.S.C. chapter 4 and 10 U.S.C. chapter 137 legacy provisions (see 10 U.S.C. 3016); and 51 U.S.C. 20113.

PART 2—DEFINITIONS OF WORDS AND TERMS

4. Amend section 2.101, by—

a. In the definition “Major system”, removing from paragraph (2) “$2.5 million” and adding “$3 million” in its place; and

b. Revising the definitions of “Micro-purchase threshold” and “Simplified acquisition threshold” to read as follows:

2.101 Definitions.

* * * * *

Micro-purchase threshold means $15,000, except it means—

(1) For acquisitions of construction subject to 40 U.S.C. chapter 31, subchapter IV, Wage Rate Requirements (Construction), $2,000;

(2) For acquisitions of services subject to 41 U.S.C. chapter 67, Service Contract Labor Standards, $2,500;

(3) For acquisitions of supplies or services that, as determined by the head of the agency, are to be used to support a contingency operation; to facilitate defense against or recovery from cyber, nuclear, biological, chemical or radiological attack; to support a request from the Secretary of State or the Administrator of the United States Agency for International Development to facilitate provision of international disaster assistance pursuant to 22 U.S.C. 2292 et seq.; or to support response to an emergency or major disaster (42 U.S.C. 5122), as described in 13.201(g)(1), except for construction subject to 40 U.S.C. chapter 31, subchapter IV, Wage Rate Requirements (Construction) (41 U.S.C. 1903)—

(i) $25,000 in the case of any contract to be awarded and performed, or purchase to be made, inside the United States; and

(ii) $40,000 in the case of any contract to be awarded and performed, or purchase to be made, outside the United States; and

(4) For acquisitions of supplies or services from institutions of higher education (20 U.S.C. 1001(a)) or related or affiliated nonprofit entities, or from nonprofit research organizations or independent research institutes—

(i) $15,000; or

(ii) A higher threshold, as determined appropriate by the head of the agency and consistent with clean audit findings under 31 U.S.C. chapter 75, Requirements for Single Audits; an internal institutional risk assessment; or State law.

* * * * *

Simplified acquisition threshold means $350,000, except for—

(1) Acquisitions of supplies or services that, as determined by the head of the agency, are to be used to support a contingency operation; to facilitate defense against or recovery from cyber, nuclear, biological, chemical, or radiological attack; to support a request from the Secretary of State or the Administrator of the United States Agency for International Development to facilitate provision of international disaster assistance pursuant to 22 U.S.C. 2292 et seq.; or to support response to an emergency or major disaster (42 U.S.C. 5122), (41 U.S.C. 1903), the term means—

(i) $1 million for any contract to be awarded and performed, or purchase to be made, inside the United States; and

(ii) $2 million for any contract to be awarded and performed, or purchase to be made, outside the United States; and

(2) Acquisitions of supplies or services that, as determined by the head of the agency, are to be used to support a humanitarian or peacekeeping operation (10 U.S.C. 3015), the term means $650,000 for any contract to be awarded and performed, or purchase to be made, outside the United States.

* * * * *

PART 3—IMPROPER BUSINESS PRACTICES AND PERSONAL CONFLICTS OF INTEREST

3.502-2 [Amended]

5. Amend section 3.502-2 in paragraph (i) introductory text by removing “$150,000” and adding “$200,000” in its place.

3.502-3 [Amended]

6. Amend section 3.502-3 by removing “$150,000” and adding “$200,000” in its place.

3.804 [Amended]

7. Amend section 3.804 by removing “$150,000” and adding “$200,000” in its place.

3.808 [Amended]

8. Amend section 3.808 in paragraphs (a) and (b) by removing “$150,000” and adding “$200,000” in their places, respectively.

3.1004 [Amended]

9. Amend section 3.1004 in paragraphs (a), (b)(1)(i), and (b)(3) by removing “$6 million” and adding “$7.5 million” in their places, respectively.

PART 4—ADMINISTRATIVE AND INFORMATION MATTERS

4.605 [Amended]

10. Amend section 4.605 in paragraphs (c)(2)(i) introductory text and (c)(2)(ii) by removing “$30,000” and adding “$40,000” in their places, respectively.

4.1102 [Amended]

11. Amend section 4.1102 in paragraph (a)(6) by removing “$30,000” and adding “$40,000” in its place.

4.1401 [Amended]

12. Amend section 4.1401 in paragraph (a) by removing “$30,000” and adding “$40,000” in its place.

4.1403 [Amended]

13. Amend section 4.1403 in paragraph (a) by removing “$30,000” and adding “$40,000” in its place.

PART 5—PUBLICIZING CONTRACT ACTIONS

5.101 [Amended]

14. Amend section 5.101 in paragraph (a)(2) introductory text by removing “$15,000” and adding “$20,000” in its place.

5.205 [Amended]

15. Amend section 5.205 in paragraph (d)(2) by removing “$15,000” and adding “$20,000” in its place.

5.206 [Amended]

16. Amend section 5.206 in paragraph (a)(2) by removing “$15,000” and adding “$20,000” in its place.

5.303 [Amended]

17. Amend section 5.303 in paragraph (a) introductory text by removing “$4.5 million” and adding “$5.5 million” in its place.

PART 6—COMPETITION REQUIREMENTS

6.204 [Amended]

18. Amend section 6.204 in paragraph (b) by removing “$25 million” and adding “$30 million” in its place.

6.302-5 [Amended]

19. Amend section 6.302-5 in paragraphs (b)(4) and (c)(2)(iii) by removing “$25 million” and adding “$30 million” in their places, respectively.

6.303-1 [Amended]

20. Amend section 6.303-1 in paragraph (b) introductory text by removing “$25 million” and adding “$30 million” in its place.

6.303-2 [Amended]

21. Amend section 6.303-2 by removing from the introductory text of paragraphs (b) and (d) “$25 million” and adding “$30 million” in their places, respectively.

22. Amend section 6.304 by revising paragraph (a) to read as follows:

6.304 Approval of the justification.

(a) Except for paragraph (b) of this section, the justification for other than full and open competition shall be approved in writing—

(1) For a proposed contract not exceeding $900,000, the contracting officer's certification required by 6.303-2(b)(12) will serve as approval unless a higher approving level is established in agency procedures.

(2) For a proposed contract over $900,000 but not exceeding $20 million, by the advocate for competition for the procuring activity designated pursuant to 6.501 or an official described in paragraph (a)(3) or (4) of this section. This authority is not delegable.

(3) For a proposed contract over $20 million, but not exceeding $90 million, or, for DoD, NASA, and the Coast Guard, not exceeding $150 million, by the head of the procuring activity, or a designee who—

(i) If a member of the armed forces, is a general or flag officer; or

(ii) If a civilian, is serving in a position in a grade above GS-15 under the General Schedule (or in a comparable or higher position under another schedule).

(4) For a proposed contract over $90 million or, for DoD, NASA, and the Coast Guard, over $150 million, by the senior procurement executive of the agency designated pursuant to 41 U.S.C. 1702(c) in accordance with agency procedures. This authority is not delegable except in the case of the Under Secretary of Defense for Acquisition and Sustainment, acting as the senior procurement executive for the Department of Defense.

* * * * *

6.502 [Amended]

23. Amend section 6.502 in paragraph (b)(2)(vii) by removing “$1,000,000” and adding “$1.5 million” in its place.

PART 8—REQUIRED SOURCES OF SUPPLIES AND SERVICES

8.404 [Amended]

24. Amend section 8.404 in paragraph (b)(2) by removing “$600,000” and adding “$750,000” in its place.

8.405-3 [Amended]

25. Amend section 8.405-3 in paragraphs (a)(3)(ii) introductory text, (a)(3)(iii), and (a)(7)(v) by removing “$100 million” wherever it appears and adding “$150 million” in their places, respectively.

26. Amend section 8.405-6 by revising paragraph (d) to read as follows:

8.405-6 Limiting sources.

* * * * *

(d) Justification approvals. (1) For a proposed order or BPA with an estimated value exceeding the simplified acquisition threshold, but not exceeding $900,000, the ordering activity contracting officer's certification that the justification is accurate and complete to the best of the ordering activity contracting officer's knowledge and belief will serve as approval, unless a higher approval level is established in accordance with agency procedures.

(2) For a proposed order or BPA with an estimated value exceeding $900,000, but not exceeding $20 million, the justification must be approved by the advocate for competition of the activity placing the order, or by an official named in paragraph (d)(3) or (4) of this section. This authority is not delegable.

(3) For a proposed order or BPA with an estimated value exceeding $20 million, but not exceeding $90 million (or, for DoD, NASA, and the Coast Guard, not exceeding $150 million), the justification must be approved by—

(i) The head of the procuring activity placing the order;

(ii) A designee who—

(A) If a member of the armed forces, is a general or flag officer; or

(B) If a civilian, is serving in a position in a grade above GS-15 under the General Schedule (or in a comparable or higher position under another schedule); or

(iii) An official named in paragraph (d)(4) of this section.

(4) For a proposed order or BPA with an estimated value exceeding $90 million (or, for DoD, NASA, and the Coast Guard, over $150 million), the justification must be approved by the senior procurement executive of the agency placing the order. This authority is not delegable, except in the case of the Under Secretary of Defense for Acquisition and Sustainment, acting as the senior procurement executive for the Department of Defense.

PART 9—CONTRACTOR QUALIFICATIONS

9.104-5 [Amended]

27. Amend section 9.104-5 by—

a. Removing from paragraph (a)(2) “$10,000” and adding “$15,000” in its place; and

b. Removing from paragraph (c) “$5.5 million” and adding “$7 million” in its place.

9.104-7 [Amended]

28. Amend section 9.104-7 by—

a. Removing from paragraphs (b) and (c)(1) “$600,000” and adding “$750,000” in their places, respectively; and

b. Removing from paragraph (e) “$5.5 million” and adding “$7 million” in its place.

9.405-2 [Amended]

29. Amend section 9.405-2 in paragraph (b) introductory text by removing “$35,000” wherever it appears and adding “$45,000” in their places, respectively.

9.409 [Amended]

30. Amend section 9.409 by removing “$35,000” and adding “$45,000” in its place.

PART 10—MARKET RESEARCH

10.001 [Amended]

31. Amend section 10.001 in paragraph (d) by removing “$6 million” and adding “$7.5 million” in its place.

10.003 [Amended]

32. Amend section 10.003 by removing “$6 million” and adding “$7.5 million” in its place.

PART 12—ACQUISITION OF COMMERCIAL PRODUCTS AND COMMERCIAL SERVICES

33. Amend section 12.102 by revising paragraph (f)(2) introductory text to read as follows:

12.102 Applicability.

* * * * *

(f) * * *

(2) A contract in an amount greater than $25 million that is awarded on a sole source basis for a product or service treated as a commercial product or commercial service under paragraph (f)(1) of this section but does not meet the definition of a commercial product or commercial service at 2.101 shall not be exempt from—

* * * * *

12.203 [Amended]

34. Amend section 12.203 in paragraph (a) by removing “$7.5 million” and adding “$9 million” in its place.

PART 13—SIMPLIFIED ACQUISITION PROCEDURES

13.000 [Amended]

35. Amend section 13.000 by removing “$7.5 million” and adding “$9 million” in its place.

13.003 [Amended]

36. Amend section 13.003 by removing from paragraphs (c)(1)(ii) and (g)(2) “$7.5 million” and adding “$9 million” in their places, respectively.

37. Amend section 13.201 by revising paragraphs (g)(1)(i) and (ii) to read as follows:

13.201 General.

* * * * *

(g)(1) * * *

(i) $25,000 in the case of any contract to be awarded and performed, or purchase to be made, inside the United States; and

(ii) $40,000 in the case of any contract to be awarded and performed, or purchase to be made, outside the United States.

* * * * *

38. Amend section 13.303-5 in paragraph (b)(1) by removing “$7.5 million” and adding “$9 million” in its place, and revising paragraph (b)(2).

The revision reads as follows:

13.303-5 Purchases under BPAs.

* * * * *

(b) * * *

(2) The limitation for individual purchases for commercial product and commercial service acquisitions conducted under subpart 13.5 is $9 million ($15 million for acquisitions as described in 13.500(c)).

* * * * *

13.402 [Amended]

39. Amend section 13.402 in paragraph (a) by removing “$35,000” and adding “$45,000” in its place.

13.500 [Amended]

40. Amend section 13.500 by removing from paragraph (a) “$7.5 million” and adding “$9 million” in its place.

41. Amend section 13.501 by revising paragraphs (a)(2)(i) through (iv) to read as follows:

13.501 Special documentation requirements.

(a) * * *

(2) * * *

(i) For a proposed contract exceeding the simplified acquisition threshold, but not exceeding $900,000, the contracting officer's certification that the justification is accurate and complete to the best of the contracting officer's knowledge and belief will serve as approval, unless a higher approval level is established in accordance with agency procedures.

(ii) For a proposed contract exceeding $900,000 or the thresholds in paragraph (1) of the definition of simplified acquisition threshold in 2.101, but not exceeding $20 million, the advocate for competition for the procuring activity, designated pursuant to 6.501, or an official described in 6.304(a)(3) or (a)(4) must approve the justification and approval. This authority is not delegable.

(iii) For a proposed contract exceeding $20 million but not exceeding $90 million or, for DoD, NASA, and the Coast Guard, not exceeding $150 million, the head of the procuring activity or the official described in 6.304(a)(3) or (a)(4) must approve the justification and approval. This authority is not delegable.

(iv) For a proposed contract exceeding $90 million or, for DoD, NASA, and the Coast Guard, $150 million, the official described in 6.304(a)(4) must approve the justification and approval. This authority is not delegable except as provided in 6.304(a)(4).

* * * * *

PART 15—CONTRACTING BY NEGOTIATION

15.403-1 [Amended]

42. Amend section 15.403-1 in paragraph (c)(3)(iv) by removing “$20 million” and adding “$25 million” in its place.

15.403-4 [Amended]

43. Amend section 15.403-4 by—

a. Removing from paragraph (a)(1) introductory text “$750,000” and “$2 million” and adding “$950,000” and “$2.5 million” in their places, respectively; and

b. Removing from paragraph (a)(3) “$2 million” and adding “$2.5 million” in its place.

15.404-3 [Amended]

44. Amend section 15.404-3 in paragraph (c)(1)(i) by removing “$15 million” and adding “$20 million” in its place.

15.407-2 [Amended]

45. Amend section 15.407-2 by removing from paragraphs (c)(1) and (c)(2) introductory text “$15 million” and adding “$20 million” in their places, respectively.

15.408 [Amended]

46. Amend section 15.408, in Table 15-2, section II, paragraph A.(2) by removing “$15 million” and adding “$20 million” in its place.

PART 16—TYPES OF CONTRACTS

16.503 [Amended]

47. Amend section 16.503 by—

a. Removing from paragraph (b)(2) “$100 million” and adding “$150 million” in its place; and

b. Removing from paragraph (d) “$15 million” and adding “$20 million” in its place.

16.504 [Amended]

48. Amend section 16.504 by—

a. Removing from paragraphs (c)(1)(ii)(D)(1) introductory text and (D)(3) introductory text, “$100 million” and adding “$150 million” in their places, respectively; and

b. Removing from paragraph (c)(2)(i) introductory text “$15 million” and adding “$20 million” in its place.

49. Amend section 16.505 by revising paragraphs (a)(4)(iii)(A) introductory text, (b)(1)(iv) paragraph heading and introductory text, (b)(2)(ii)(C), and (b)(6) heading and introductory text to read as follows:

16.505 Ordering.

(a) * * *

(4) * * *

(iii)(A) For an order in excess of $40,000, the contracting officer shall—

* * * * *

(b) * * *

(1) * * *

(iv) Orders exceeding $7.5 million. For task or delivery orders in excess of $7.5 million, the requirement to provide all awardees a fair opportunity to be considered for each order shall include, at a minimum—

* * * * *

(2) * * *

(ii) * * *

(C) Approval. (1) For proposed orders exceeding the simplified acquisition threshold, but not exceeding $900,000, the ordering activity contracting officer's certification that the justification is accurate and complete to the best of the ordering activity contracting officer's knowledge and belief will serve as approval, unless a higher approval level is established in accordance with agency procedures.

(2) For a proposed order exceeding $900,000, but not exceeding $20 million, the justification must be approved by the advocate for competition of the activity placing the order, or by an official named in paragraph (b)(2)(ii)(C)(3) or (4) of this section. This authority is not delegable.

(3) For a proposed order exceeding $20 million, but not exceeding $90 million (or, for DoD, NASA, and the Coast Guard, not exceeding $150 million), the justification must be approved by—

(i) The head of the procuring activity placing the order;

(ii) A designee who—

(A) If a member of the armed forces, is a general or flag officer;

(B) If a civilian, is serving in a position in a grade above GS-15 under the General Schedule (or in a comparable or higher position under another schedule); or

(iii) An official named in paragraph (b)(2)(ii)(C)(4) of this section.

(4) For a proposed order exceeding $90 million (or, for DoD, NASA, and the Coast Guard, over $150 million), the justification must be approved by the senior procurement executive of the agency placing the order. This authority is not delegable, except in the case of the Under Secretary of Defense for Acquisition and Sustainment, acting as the senior procurement executive for the Department of Defense.

* * * * *

(6) Postaward notices and debriefing of awardees for orders exceeding $7.5 million. The contracting officer shall notify unsuccessful awardees when the total price of a task or delivery order exceeds $7.5 million.

* * * * *

16.506 [Amended]

50. Amend section 16.506 by—

a. Removing from paragraphs (f) and (g) “$15 million” and adding “$20 million” in their places, respectively; and

b. Removing from paragraph (h) “$6 million” and adding “$7.5 million” in its place.

PART 17—SPECIAL CONTRACTING METHODS

51. The authority citation for 48 CFR part 17 continues to read as follows:

Authority: 41 U.S.C. 1121(b); 40 U.S.C. 121(c); 10 U.S.C. chapter 4 and 10 U.S.C. chapter 137 legacy provisions (see 10 U.S.C. 3016); and 51 U.S.C. 20113.

17.108 [Amended]

52. Amend section 17.108 by—

a. Removing from paragraph (a) “$15 million” and adding “$20 million” in its place; and

b. Removing from paragraph (b) “$150 million” and adding “$200 million” in its place.

17.500 [Amended]

53. Amend section 17.500 in paragraph (c)(2) by removing “$600,000” and adding “$750,000” in its place.

54. The authority citation for 48 CFR parts 19, 22, and 23 is revised to read as follows:

Authority: 41 U.S.C. 1121(b); 40 U.S.C. 121(c); 10 U.S.C. chapter 4 and 10 U.S.C. chapter 137 legacy provisions (see 10 U.S.C. 3016); and 51 U.S.C. 20113.

PART 19—SMALL BUSINESS PROGRAMS

19.702 [Amended]

55. Amend section 19.702 by removing from paragraphs (a)(1)(i) through (iii) “$750,000 ($1.5 million” and adding “$900,000 ($2 million” in their places, respectively.

19.704 [Amended]

56. Amend section 19.704 in paragraph (a)(9) by removing “$750,000 ($1.5 million” and adding “$900,000 ($2 million” in its place.

19.708 [Amended]

57. Amend section 19.708 in paragraph (b)(1) by removing “$750,000 ($1.5 million” and adding “$900,000 ($2 million” in its place.

19.804-6 [Amended]

58. Amend section 19.804-6 in paragraph (c)(2) by removing “$7 million” and “$4.5 million” and adding “$8.5 million” and “$5.5 million” in their places, respectively.

19.805-1 [Amended]

59. Amend section 19.805-1 in paragraph (a)(2) by removing “$7 million” and “$4.5 million” and adding “$8.5 million” and “$5.5 million” in their places, respectively.

19.808-1 [Amended]

60. Amend section 19.808-1 in paragraph (a) by removing “$25 million” and adding “$30 million” in its place.

19.1306 [Amended]

61. Amend section 19.1306 by—

a. Removing from paragraph (a)(2)(i) “$7 million” and adding “$8.5 million” in its place; and

b. Removing from paragraph (a)(2)(ii) “$4.5 million” and adding “$5.5 million” in its place.

19.1406 [Amended]

62. Amend section 19.1406 by—

a. Removing from paragraph (a)(2)(i) “$7 million” and adding “$8.5 million” in its place; and

b. Removing from paragraph (a)(2)(ii) “$4 million” and adding “$5 million” in its place.

19.1506 [Amended]

63. Amend section 19.1506 by—

a. Removing from paragraph (c)(1)(i) “$7 million” and adding “$8.5 million” in its place; and

b. Removing from paragraph (c)(1)(ii) “$4.5 million” and adding “$5.5 million” in its place.

PART 22—APPLICATION OF LABOR LAWS TO GOVERNMENT ACQUISITIONS

22.305 [Amended]

64. Amend section 22.305 in paragraph (a) by removing “$150,000” and adding “$200,000” in its place.

22.602 [Amended]

65. Amend section 22.602 by removing “$15,000” and adding “$20,000” in its place.

22.603 [Amended]

66. Amend section 22.603 in paragraph (b) by removing “$15,000” and adding “$20,000” in its place.

22.605 [Amended]

67. Amend section 22.605 by removing from paragraphs (a)(1), (a)(2), (a)(3), and (a)(5) “$15,000” wherever it appears and adding “$20,000” in their places, respectively.

22.1103 [Amended]

68. Amend section 22.1103 by removing “$750,000” and adding “$900,000” in its place.

22.1303 [Amended]

69. Amend section 22.1303 in paragraphs (a) and (c) by removing “$150,000” and adding “$200,000” in their places, respectively.

22.1310 [Amended]

70. Amend section 22.1310 in paragraph (a)(1) by removing “$150,000” and adding “$200,000” in its place.

22.1402 [Amended]

71. Amend section 22.1402 in paragraph (a) by removing “$15,000” and adding “$20,000” in its place.

22.1408 [Amended]

72. Amend section 22.1408 in paragraph (a) introductory text by removing “$15,000” and adding “$20,000” in its place.

22.1701 [Amended]

73. Amend section 22.1701 in paragraph (b)(2) by removing “$550,000” and adding “$700,000” in its place.

22.1703 [Amended]

74. Amend section 22.1703 by removing from paragraphs (c)(1)(i)(B) and (c)(3)(i)(B) “$550,000” and adding “$700,000” in their places, respectively.

22.1705 [Amended]

75. Amend section 22.1705 in paragraph (b)(1) by removing “$550,000” and adding “$700,000” in its place.

PART 23—ENVIRONMENT, SUSTAINABLE ACQUISITION, AND MATERIAL SAFETY

23.109 [Amended]

76. Amend section 23.109 in paragraph (b)(2) by removing “$150,000” and adding “$200,000” in its place.

PART 25—FOREIGN ACQUISITION

77. The authority citation for 48 CFR part 25 continues to read as follows:

Authority: 41 U.S.C. 1121(b); 40 U.S.C. 121(c); 10 U.S.C. chapter 4 and 10 U.S.C. chapter 137 legacy provisions (see 10 U.S.C. 3016); and 51 U.S.C. 20113.

25.703-2 [Amended]

78. Amend section 25.703-2 in paragraph (a)(2) by removing “$10,000” and adding “$15,000” in its place.

79. The authority citation for 48 CFR parts 26 and 30 is revised to read as follows:

Authority: 41 U.S.C. 1121(b); 40 U.S.C. 121(c); 10 U.S.C. chapter 4 and 10 U.S.C. chapter 137 legacy provisions (see 10 U.S.C. 3016); and 51 U.S.C. 20113.

PART 26—OTHER SOCIOECONOMIC PROGRAMS

26.404 [Amended]

80. Amend section 26.404 by removing “$30,000” and adding “$35,000” in its place.

PART 30—COST ACCOUNTING STANDARDS ADMINISTRATION

30.201-4 [Amended]

81. Amend section 30.201-4 in paragraph (b)(1) by removing “$2 million” and adding “$2.5 million” in its place.

PART 32—CONTRACT FINANCING

82. The authority citation for 48 CFR part 32 continues to read as follows:

Authority: 41 U.S.C. 1121(b); 40 U.S.C. 121(c); 10 U.S.C. chapter 4 and 10 U.S.C. chapter 137 legacy provisions (see 10 U.S.C. 3016); and 51 U.S.C. 20113.

32.104 [Amended]

83. Amend section 32.104 by removing from paragraphs (d)(2)(i) and (ii) “$3 million” and adding “$3.5 million” in their places, respectively.

32.404 [Amended]

84. Amend section 32.404 in paragraph (a)(7)(i) by removing “$15,000” and adding “$20,000” in its place.

85. The authority citation for 48 CFR parts 36, 42, and 50 is revised to read as follows:

Authority: 41 U.S.C. 1121(b); 40 U.S.C. 121(c); 10 U.S.C. chapter 4 and 10 U.S.C. chapter 137 legacy provisions (see 10 U.S.C. 3016); and 51 U.S.C. 20113.

PART 36—CONSTRUCTION AND ARCHITECT-ENGINEER CONTRACTS

36.303-1 [Amended]

86. Amend section 36.303-1 in paragraph (a)(4) by removing “$4.5 million” and adding “$5.5 million” in its place.

36.501 [Amended]

87. Amend section 36.501 in paragraph (b) by removing “$1.5 million” wherever it appears and adding “$2 million” in their places, respectively.

PART 42—CONTRACT ADMINISTRATION AND AUDIT SERVICES

42.709-1 [Amended]

88. Amend section 42.709-1 in paragraph (b) by removing “$800,000” and adding “$1 million” in its place.

42.709-7 [Amended]

89. Amend section 42.709-7 by removing “$800,000” and adding “$1 million” in its place.

42.1502 [Amended]

90. Amend section 42.1502 by—

a. Removing from paragraph (e) “$750,000” wherever it appears and adding “$900,000” in their places, respectively; and

b. Removing from paragraph (f) “$35,000” wherever it appears and adding “$45,000” in their places, respectively.

PART 50—EXTRAORDINARY CONTRACTUAL ACTIONS AND THE SAFETY ACT

50.102-1 [Amended]

91. Amend section 50.102-1 in paragraph (b) by removing “$75,000” and adding “$90,000” in its place.

50.102-3 [Amended]

92. Amend section 50.102-3 by removing from paragraphs (e)(1)(i) and (ii) “$75,000” and adding “$90,000” in their places, respectively.

PART 52—SOLICITATION PROVISIONS AND CONTRACT CLAUSES

93. The authority citation for 48 CFR part 52 continues to read as follows:

Authority: 41 U.S.C. 1121(b); 40 U.S.C. 121(c); 10 U.S.C. chapter 4 and 10 U.S.C. chapter 137 legacy provisions (see 10 U.S.C. 3016); and 51 U.S.C. 20113.

94. Amend section 52.204-8 by revising the date of the provision, and removing from paragraph (c)(1)(ii) “$150,000” and adding “$200,000” in its place.

The revision reads as follows:

52.204-8 Annual Representations and Certifications.

* * * * *

Annual Representations and Certifications (OCT 2025)

* * * * *

95. Amend section 52.209-12 by revising the date of the provision, and removing from paragraph (b) introductory text “$5.5 million” and adding “$7 million” in its place.

The revision reads as follows:

52.209-12 Certification Regarding Tax Matters.

* * * * *

Certification Regarding Tax Matters (OCT 2025)

* * * * *

96. Amend section 52.212-3 by revising the date of the provision, and removing from paragraph (e) “$150,000” and adding “$200,000” in its place.

The revision reads as follows:

52.212-3 Offeror Representations and Certifications—Commercial Products and Commercial Services.

* * * * *

Offeror Representations and Certifications—Commercial Products and Commercial Services (OCT 2025)

* * * * *

97. Amend section 52.212-5 by—

a. Revising the date of the clause;

b. Removing from paragraphs (b)(39)(i) and (e)(1)(xvi)(A) “NOV 2021” and adding “OCT 2025” in their places, respectively;

c. In Alternate II:

i. Revising the date of the alternate; and

ii. Removing from paragraph (e)(1)(ii)(O)(1) “NOV 2021” and adding “OCT 2025” in its place.

The revision reads as follows:

52.212-5 Contract Terms and Conditions Required To Implement Statutes or Executive Orders—Commercial Products and Commercial Services.

* * * * *

Contract Terms and Conditions Required To Implement Statutes or Executive Orders—Commercial Products and Commercial Services (OCT 2025)

* * * * *

Alternate II (OCT 2025). * * *

* * * * *

98. Amend section 52.213-4 by—

a. Revising the date of the clause;

b. Removing from paragraph (a)(2)(vii) “JAN 2025” and adding “OCT 2025” in its place; and

c. Removing from paragraph (b)(1)(ix)(A) “NOV 2021” and adding “OCT 2025” in its place.

The revision reads as follows:

52.213-4 Terms and Conditions—Simplified Acquisitions (Other Than Commercial Products and Commercial Services).

* * * * *

Terms and Conditions—Simplified Acquisitions (Other Than Commercial Products and Commercial Services) (OCT 2025)

* * * * *

99. Amend section 52.214-28 in Alternate I by:

a. Revising the date of the alternate;

b. Removing from paragraph (b)(1) “$750,000” and adding “$950,000” in its place; and

c. Removing from paragraph (b)(2) “$2 million” wherever it appears and adding “$2.5 million” in their places, respectively.

The revision reads as follows:

52.214-28 Subcontractor Certified Cost or Pricing Data—Modifications—Sealed Bidding.

* * * * *

Alternate I (OCT 2025) * * *

* * * * *

100. Amend section 52.215-12 in Alternate I by:

a. Revising the date of the alternate;

b. Removing from paragraph (a)(1) “$750,000” and adding “$950,000” in its place; and

c. Removing from paragraph (a)(2) “$2 million” wherever it appears and adding “$2.5 million” in their places, respectively.

The revision reads as follows:

52.215-12 Subcontractor Certified Cost or Pricing Data.

* * * * *

Alternate I (OCT 2025) * * *

* * * * *

101. Amend section 52.215-13 in Alternate I by:

a. Revising the date of the alternate;

b. Removing from paragraph (b)(1) “$750,000” and adding “$950,000” in its place; and

c. Removing from paragraphs (b)(2) and (d) “$2 million” and adding “$2.5 million” in their places, respectively.

The revision reads as follows:

52.215-13 Subcontractor Certified Cost or Pricing Data—Modifications.

* * * * *

Alternate I (OCT 2025) * * *

* * * * *

102. Amend section 52.222-50 by revising the date of the clause, and removing from paragraphs (h)(1)(ii) and (i)(1)(ii) “$550,000” and adding “$700,000” in their places, respectively.

The revision reads as follows:

52.222-50 Combating Trafficking in Persons.

* * * * *

Combating Trafficking in Persons (OCT 2025)

* * * * *

103. Amend section 52.222-56 by revising the date of the provision, and removing from paragraph (b)(2) “$550,000” and adding “$700,000” in its place.

The revision reads as follows:

52.222-56 Certification Regarding Trafficking in Persons Compliance Plan.

* * * * *

Certification Regarding Trafficking in Persons Compliance Plan (OCT 2025)

* * * * *

104. Amend section 52.225-8 by revising the date of the clause, and removing from paragraphs (c)(1) introductory text and (j)(2) “$15,000” and adding “$20,000” in their places, respectively.

The revision reads as follows:

52.225-8 Duty-Free Entry.

* * * * *

Duty-Free Entry (OCT 2025)

* * * * *

105. Amend section 52.244-6 by—

a. Revising the date of the clause; and

b. Removing from paragraph (c)(1)(xvii)(A) “NOV 2021” and adding “OCT 2025” in its place.

The revision reads as follows:

52.244-6 Subcontracts for Commercial Products and Commercial Services.

* * * * *

Subcontracts for Commercial Products and Commercial Services (OCT 2025)

* * * * *

106. Amend section 52.248-3 by revising the date of the clause, and removing from paragraph (h) “$75,000” and adding “$90,000” in its place.

The revision reads as follows:

52.248-3 Value Engineering—Construction.

* * * * *

Value Engineering—Construction (OCT 2025)

* * * * *

[FR Doc. 2025-16412 Filed 8-26-25; 8:45 am]

BILLING CODE 6820-EP-P